DEPARTMENT OF VETERANS AFFAIRS

Advisory Committee on Prosthetics and Special-Disabilities Programs; Notice of Meeting

The Department of Veterans Affairs (VA) gives notice under the Federal Advisory Committee Act (5 U.S.C. App. 2), that a virtual meeting of the Federal Advisory Committee on Prosthetics and Special-Disabilities Programs will be held on Monday, May 23-Tuesday, May 24, 2022. The meeting sessions will begin and end as follows:

Date: | Time (eastern standard time):
May 23, 2022 | 9:00 a.m.-1:00 p.m.
May 24, 2022 | 9:00 a.m.-1:30 p.m.

The virtual meeting sessions are open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On May 23, 2022, the Committee will convene open virtual sessions on Overview of the Federal Advisory Committee Act; Chiropractic Care; and Spinal Cord Injury and Disorders System of Care. The Committee will also hear greeting from Veteran Health Administration (VHA) Senior Leadership on the Secretary's priorities.

On May 24, 2022, the Committee members will convene open virtual sessions on Clinical Orthotic and Prosthetic Services; Physical Medicine and Rehabilitation; Polytrauma System of Care; and Amputation System of Care.

No time will be allocated at this virtual meeting for receiving oral presentations from the public. However, the public may submit 1-2-page summaries of their written statements for the Committee's review. Public comments may be received no later than May 16, 2022, for inclusion in the official meeting record. Please send these comments to Dr. Lauren Racoosin, Designated Federal Officer, Rehabilitation and Prosthetic Services, Veterans Health Administration, at Lauren.Racoosin@va.gov.

Members of the public should contact Dr. Lauren Racoosin, at Lauren.Racoosin@va.gov, and provide your name, professional affiliation, email address, and phone number, who wish to obtain a copy of the agenda. For any members of the public that wish to attend virtually, they may use the WebEx link: https://veteransaffairs.webex.com/veteransaffairs/j.php?MTID=mcbf371e6df08d87e4d6d66c350a60c73, meeting number (access code) 2761 941 8151; meeting password: urNYcxs3@86 audio only: 404.397.1596/27619418151##. Real time closed captioning will be available.

Dated: April 4, 2022.
LaTonya L. Small,
Federal Advisory Committee Management Officer.

[FR Doc. 2022-07476 Filed 4-7-22; 8:45 am]

BILLING CODE P